COMMISSION ON CIVIL RIGHTS

Agenda and Notice of Public Meeting of the Oklahoma Advisory Committee

Notice is hereby given, pursuant to the provisions of the rules and regulations of the U.S. Commission on Civil Rights, that a meeting of the Kansas Advisory Committee to the Commission will convene at 10 a.m. and adjourn at 1 p.m. on May 17, 2001, at the Biltmore Hotel, 401 South Meridian, Oklahoma City, Oklahoma 73108. The purpose of the meeting is to receive planning input for project development.

Persons desiring additional information, or planning a presentation to the Committee, should contact Melvin L. Jenkins, Director of the Central Regional Office, 913-551-1400 (TDD 913-551-1414). Hearing-impaired persons who will attend the meeting and require the services of a sign language interpreter should contact the Regional Office at least ten (10) working days before the scheduled date of the meeting.

The meeting will be conducted pursuant to the provisions of the rules and regulations of the Commission.

Dated at Washington, DC, April 20, 2001.
Edward A. Hailes, Jr.,
General Counsel.

[FR Doc. 01-10276 Filed 4-24-01; 8:45 am]

BILLING CODE 6335-01-P